DEPARTMENT OF DEFENSE

48 CFR Part 205

[DFARS Case 2004-D025]

Defense Federal Acquisition Regulation Supplement; Provision of Information to Cooperative Agreement Holders

AGENCY: Department of Defense (DoD).

ACTION: Interim rule with request for comments.

SUMMARY: DoD has issued an interim rule amending the Defense Federal Acquisition Regulation Supplement (DFARS) to implement section 816 of the National Defense Authorization Act for Fiscal Year 2005. Section 816 increases, from $500,000 to $1,000,000, the threshold at which a DoD contract must include a requirement for the contractor to provide to cooperative agreement holders, upon their request, a list of the contractor's employees who are responsible for entering into subcontracts.

DATES: Effective date: February 22, 2005.

Comment date: Comments on the interim rule should be submitted to the address shown below on or before April 25, 2005, to be considered in the formation of the final rule.

ADDRESSES: You may submit comments, identified by DFARS Case 2004-D025, using any of the following methods:

• Federal eRulemaking Portal: http://www.regulations.gov. Follow the instructions for submitting comments.

• Defense Acquisition Regulations Web site: http://emissary.acq.osd.mil/dar/dfars.nsf/pubcomm. Follow the instructions for submitting comments.

• E-mail: dfars@osd.mil. Include DFARS Case 2004-D025 in the subject line of the message.

• Fax: (703) 602-0350.

• Mail: Defense Acquisition Regulations Council, Attn: Ms. Michele Peterson, OUSD (AT&L) DPAP (DAR), IMD 3C132, 3062 Defense Pentagon, Washington, DC 20301-3062.

• Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Ms. Michele Peterson, (703) 602-0311.

SUPPLEMENTARY INFORMATION:

A. Background

This interim rule implements Section 816 of the National Defense Authorization Act for Fiscal Year 2005 (Public Law 108-375). Section 816 amends 10 U.S.C. 2416(d) to increase, from $500,000 to $1,000,000, the threshold at which a DoD contract must include a requirement for the contractor to provide to cooperative agreement holders, upon their request, a list of the contractor's employees who are responsible for entering into subcontracts. The rule amends the prescription for use of the clause at DFARS 252.205-7000, Provision of Information to Cooperative Agreement Holders, to reflect the new dollar threshold.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq. While the rule will reduce administrative burdens for contractors, the economic impact is not expected to be substantial. Therefore, DoD has not performed an initial regulatory flexibility analysis. DoD invites comments from small businesses and other interested parties. DoD also will consider comments from small entities concerning the affected DFARS subpart in accordance with 5 U.S.C. 610. Such comments should be submitted separately and should cite DFARS Case 2004-D025.

C. Paperwork Reduction Act

The information collection requirements of the clause at DFARS 252.205-7000, Provision of Information to Cooperative Agreement Holders, have been approved by the Office of Management and Budget, under Control Number 0704-0286, for use through September 30, 2007.

D. Determination To Issue an Interim Rule

A determination has been made under the authority of the Secretary of Defense that urgent and compelling reasons exist to publish an interim rule prior to affording the public an opportunity to comment. This interim rule implements Section 816 of the National Defense Authorization Act for Fiscal Year 2005 (Public Law 108-375). Section 816 amends 10 U.S.C. 2416(d) to increase, from $500,000 to $1,000,000, the threshold at which a DoD contract must include a requirement for the contractor to provide to cooperative agreement holders, upon their request, a list of the contractor's employees who are responsible for entering into subcontracts. Section 816 became effective upon enactment on October 28, 2004. Comments received in response to this interim rule will be considered in the formation of the final rule.

List of Subjects in 48 CFR Part 205

Government procurement.

Michele P. Peterson,
Editor, Defense Acquisition Regulations System.

Therefore, 48 CFR part 205 is amended as follows:

PART 205—PUBLICIZING CONTRACT ACTIONS

1. The authority citation for 48 CFR part 205 continues to read as follows:

Authority: 41 U.S.C. 421 and 48 CFR Chapter 1.

205.470 [Amended]

2. Section 205.470 is amended in the first sentence by removing “$500,000” and adding in its place “$1,000,000”.

[FR Doc. 05-3200 Filed 2-18-05; 8:45 am]

BILLING CODE 5001-08-P